DEPARTMENT OF THE INTERIOR

Bureau of Land Management

[ID090-04-1050-HF]

Emergency Closure Order in Ada County, ID

AGENCY: Bureau of Land Management, Interior.

ACTION: Notice.

SUMMARY: All persons are hereby prohibited entry into Higby Cave at all times, except by Bureau of Land Management (BLM) special permit, because of recent changes in the structural integrity of the cave and the related potential hazardous conditions that exist. In addition, all public lands within 1000 feet of the cave, being within the S½NW¼NW¼ and N½SW¼NW¼ of section 32, T. 1 S., R. 3 E., Boise Meridian, Ada County, Idaho, containing approximately 72 acres, are hereby closed from sunset to sunrise each day. This emergency closure is intended to provide for public safety and to protect valuable resource assets from further degradation.

BLM employees, authorized permittees, and other Federal, State, and County employees while on official business of their respective agencies, including associated vehicle use for administrative and emergency purposes are exempt from this order.

EFFECTIVE DATE: This Emergency Closure Order is effective immediately upon signing, and extends through May 1, 2007.

ADDRESSES: Bureau of Land Management, Four Rivers Field Office, 3948 Development Avenue, Boise, Idaho 83705.

FOR FURTHER INFORMATION CONTACT: Larry Ridenhour, BLM Outdoor Recreation Planner, (208) 384-3334.

SUPPLEMENTARY INFORMATION: This emergency closure is effective immediately upon signing, and will expire on May 1, 2007. During this period, BLM will evaluate whether a permanent closure is in the public interest. In the interim, the BLM authorized officer may issue a special permit allowing access into the cave under special circumstances and for specific purposes.

Definitions: (a) “Public lands” means any lands or interests in lands owned by the United States and administered by the Secretary of the Interior through the BLM; (b) “Authorized officer” means any employee of the BLM who has been delegated the authority to perform the duties described herein; (c) “Administrative purposes” means any use by an employee or designated representative of the Federal government, or one of its agents or contractors in the course of their employment or representation; (d) “Emergency purposes” means actions related to fire, rescue, or law enforcement activities.

This emergency closure is established and administered by the BLM under the authority of 43 CFR 8360.0-3, and complies with 43 CFR 8364.1 (Closure and Restriction Orders). In accordance with 43 CFR 8360.0-7, violation of this order is punishable by a fine not to exceed $1000 and/or imprisonment not to exceed 12 months. Violations may also be subject to the enhanced fines provided for in 18 U.S.C. 3571.

Dated: August 4, 2004.
Deborah L. Epps,
Acting Four Rivers Field Manager.

[FR Doc. 04-18220 Filed 8-9-04; 8:45 am]

BILLING CODE 4310-GG-P